ENVIRONMENTAL PROTECTION AGENCY

[Petition IV-2008-5; FRL-9099-5]

Clean Air Act Operating Permit Program; Petition for Objection to State Operating Permit for East Kentucky Power Cooperative, Inc.—William C. Dale Power Station; Clark County, KY

AGENCY: Environmental Protection Agency (EPA).

ACTION: Notice of final order on petition to object to a State operating permit.

SUMMARY: Pursuant to Clean Air Act (CAA) Section 505(b)(2) and 40 CFR 70.8(d), the EPA Administrator signed an Order, dated December 14, 2009, denying a petition to object to a title V operating permit issued by the Kentucky Division for Air Quality (KDAQ) to East Kentucky Power Cooperative, Inc. (EKPC) for its William C. Dale Power Station (Dale Station) located in Clark County, Kentucky. This Order constitutes a final action on the petition submitted by Sierra Club and Kentucky Environmental Foundation (Petitioners) on November 24, 2008. Pursuant to sections 307(b) and 505(b)(2) of the CAA, a petition for judicial review of the Order may be filed in the United States Court of Appeals for the appropriate circuit within 60 days from the date this notice appears in the Federal Register.

ADDRESSES: Copies of the Order, the petition, and all pertinent information relating thereto are on file at the following location: EPA Region 4, Air, Pesticides and Toxics Management Division, 61 Forsyth Street, SW., Atlanta, Georgia 30303-8960. The Order is also available electronically at the following address: http://www.epa.gov/region07/programs/artd/air/title5/petitiondb/petitions/ekpc_dale_response2008.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by State permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the State, unless the petitioner demonstrates that it was impracticable to raise these issues during the comment period or the grounds for the issues arose after this period.

Petitioners submitted a petition regarding the EKPC Dale Station on November 24, 2008, requesting that EPA object to the title V operating permit (#V-08-009). Petitioners alleged that the permit was not consistent with the CAA for the following reasons: (1) The maximum heat input rates in the permit must be enforceable limits because, presumably, there exists a State operating permit for Dale Station that includes maximum heat inputs and, because without such maximum heat input limits, compliance with the National Ambient Air Quality Standards for SO2 cannot be assured; and, (2) KDAQ cannot delete the three-hour averaging time from the particulate matter (PM) emission limit for certain coal handling equipment because the emission limit must have an averaging time; therefore, the three-hour averaging time should be placed back into the permit, and the permit should be required to include monitoring and reporting adequate to assure compliance with the PM limit.

On December 14, 2009, the Administrator issued an Order denying the petition. The Order explains EPA's rationale for denying the petition with respect to the issues raised.

Dated: December 18, 2009.
Beverly H. Banister,
Acting Regional Administrator, Region 4.

[FR Doc. E9-31175 Filed 12-31-09; 8:45 am]

BILLING CODE 6560-50-P